DEPARTMENT OF ENERGY

Agency Information Collection Activities: Proposed Voluntary Collection for Reliability, Survivability, Resiliency (RSR) Project; Comment Request

AGENCY: Office of Electricity Delivery and Energy Reliability (OE), Infrastructure Security and Energy Restoration (ISER), Department of Energy.

ACTION: Agency Voluntary Information Collection Activities: Proposed Collection; Comment Request.

SUMMARY: The Office of Electricity Delivery and Energy Reliability, Infrastructure Security and Energy Restoration is soliciting comments for submission to the Office of Management and Budget (OMB) pursuant to the Paperwork Reduction Act of 1995 on the proposed RSR Project's voluntary participation by industry in the collection of information to identify systemic problems and dependency issues impacting the energy sector's system-wide reliability, survivability and resiliency that will assist in pre-event planning. Comments are invited on: (a) Whether the proposed voluntary collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding the proposed information collection must be received on or before July 20, 2009. If you anticipate difficulty in submitting comments within that period, contact the person listed below as soon as possible.

ADDRESSES: Written comments may be sent to Kenneth Friedman by fax at 202-586-2623 or by e-mail at Kenneth.friedman@hq.doe.gov. The mailing address is Forrestal Building, U.S. Department of Energy, Washington, DC 20585. Alternatively, Kenneth Friedman may be reached by phone at 202-586-0379.

FOR FURTHER INFORMATION CONTACT: Requests for additional information should be directed to Kenneth Friedman at the address, e-mail and phone number listed above.

SUPPLEMENTARY INFORMATION: This information collection request contains:

(1) OMB No. New.

(2) Voluntary Information Collection Request Title: Reliability, Survivability, (RSR) project.

(3) Type of Review: New.

(4) Purpose: DOE's Office of Electricity Delivery and Energy Reliability and the Infrastructure Security and Energy Restoration Division have launched the RSR Project to support the goals for the Energy Sector Specific plan (SSP) to ensure a robust and resilient energy infrastructure in which continuity of business and service reliability are strengthened. In cooperation with energy sector industry and partners, the RSR Project will assist in identifying systemic problems and dependency issues that may impact system-wide reliability, survivability and resiliency within the energy sector. Categories of information will include operational issues from recent history, controls safeguarding assets, supply chain critical suppliers, evaluation of emergency response, mitigation of disruptions, consequence impact on business continuity and service, impact on local area, restoration and recovery tie. The collected data will generate reports for ISER that will support pre-event planning. Feedback will be provided to industry that addresses potential restoration concerns.

(5) Respondents: Energy Sector Industry volunteers up to 1500 sites.

(6) Estimated Number of Burden Hours: 30,000 hours based on 20 hours maximum per site for a total of 1500 sites. There is no requirement for record keeping.

Statutory Authority: Department of Energy Organization Act (DOE Act), 42 U.S.C. 7101 et seq., the Federal Power Act, 16 U.S.C. 792 et seq. Section 1016(e) of the USA Patriot Act of 2001 (42 U.S.C. 5195c). Homeland Security Presidential Directive/HSPD7.

Issued in Washington, DC on May 14, 2009.
William N. Bryan,
Deputy Assistant Secretary, Infrastructure Security & Energy Restoration.

[FR Doc. E9-11733 Filed 5-19-09; 8:45 am]

BILLING CODE 6450-01-P